DEPARTMENT OF COMMERCE

Foreign-Trade Zones Board

[B-7-2021]

Foreign-Trade Zone (FTZ) 134—Chattanooga, Tennessee; Notification of Proposed Production Activity; Wacker Polysilicon North America, LLC (Hydrophilic Fumed Silica); Charleston, Tennessee

Wacker Polysilicon North America, LLC (Wacker) submitted a notification of proposed production activity to the FTZ Board for its facility in Charleston, Tennessee. The notification conforming to the requirements of the regulations of the FTZ Board (15 CFR 400.22) was received on February 5, 2021.

Wacker already has authority to produce polysilicon within Subzone 134B using foreign-status silicon metal that is not subject to an antidumping or countervailing duty order. The current request would add a finished product to the scope of authority. Pursuant to 15 CFR 400.14(b), additional FTZ authority would be limited to the specific finished product described in the submitted notification (as described below) and subsequently authorized by the FTZ Board.

Production under FTZ procedures could exempt Wacker from customs duty payments on the foreign-status materials/components used in export production. On its domestic sales, for the foreign-status materials/components in the existing scope of authority, Wacker would be able to choose the duty rates during customs entry procedures that apply to hydrophilic fumed silica (duty-free). Wacker would be able to avoid duty on foreign-status components which become scrap/waste. Customs duties also could possibly be deferred or reduced on foreign-status production equipment.

Public comment is invited from interested parties. Submissions shall be addressed to the Board's Executive Secretary and sent to: ftz@trade.gov. The closing period for their receipt is March 24, 2021.

A copy of the notification will be available for public inspection in the “Reading Room” section of the Board's website, which is accessible via www.trade.gov/ftz.

For further information, contact Elizabeth Whiteman at Elizabeth.Whiteman@trade.gov.

Dated: February 8, 2021.
Andrew McGilvray,
Executive Secretary.

[FR Doc. 2021-02882 Filed 2-11-21; 8:45 am]

BILLING CODE 3510-DS-P